DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

BNSF Railway

(Docket Number FRA-2006-26717)

BNSF Railway (BNSF) seeks a waiver of compliance with certain requirements of 49 CFR Part 232—Brake System Safety Standards for Freight and Other Non-Passenger Trains and Equipment, End-of Train Devices; CFR Part 215—Railroad Freight Car Safety Standards; and CFR Part 231—Railroad Safety Appliance Standards. Specifically, BNSF seeks relief to permit trains received at the U.S./Mexico border in El Paso, Texas, from the Ferrocarril Mexicano Railroad (FXE), to move from the interchange point without performing the regulatory tests and inspections specified in Part 215, Part 231, and 232.205(a)(1) at that location. BNSF proposes moving the trains from the border at Milepost 1155.1 to a main track location at Milepost 1150 where the mechanical inspections and Class I brake test would be performed.

Prior to departing the interchange point, a set and release would be made of brakes on the interchange movement insuring continuous brake pipes to the rear of the train as indicated by air gauge or end-of-train telemetry devices, and moved at a speed not exceeding 20 miles per hour to Milepost 1150 at El Paso, where the train would undergo a Class I mechanical inspection and airbrake test. Any noncompliant cars will be set out.

The petitioner asserts that granting the waiver would facilitate the efficient handling of increased international rail traffic through the El Paso gateway. According to BNSF, rail volume has grown steadily in recent years and it is anticipated to increase even more as the effects of both the North American Free Trade Agreement (NAFTA) and the General Agreement on Tariffs and Trade (GATT) are felt. BNSF says it currently receives 200 to 400 rail cars per day through the El Paso gateway and the capacity of the existing facility in El Paso is inadequate to efficiently handle the current rail volumes. As reasons for the requested relief, BNSF cites poorly laid tracks, short tracks, inadequate crossover capability, and numerous street crossings that cut through the facility. In addition, BNSF states that El Paso is a “bottleneck” that causes delays to rail traffic in international commerce on both sides of the border, and that granting the requested waiver will have no effect on railroad safety.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning this petition should identify the appropriate docket number (FRA-2006-26717) and may be submitted by one of the following methods:

Web site: http://dms.dot.gov. Follow the instructions for submitting comments on the DOT electronic site;

Fax: 202-493-2251;

Mail: Docket Management Facility, U.S. Department of Transportation, 400 Seventh Street, SW., Nassif Building, Room PL-401, Washington, DC 20590-0001; or

Hand Delivery: Room PL-401 on the plaza level of the Nassif Building, 400 Seventh Street, SW., Washington, DC, between 9 a.m. and 5 p.m., Monday through Friday, except Federal holidays.

Communication received within 45 days of the date of this notice will be considered by FRA prior to final action being taken. Comments received after that date will be considered to the extent practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment on behalf of an association, business, labor union, etc.). You may review the DOT's complete Privacy Act Statement in the Federal Register published on April 11, 2000 (Volume 65, Number 70; Pages 19477-78). The Statement may also be found at http://dms.dot.gov.

Issued in Washington, DC on January 22, 2007.
Grady C. Cothen, Jr.,
Deputy Associate Administrator for Safety Standards and Program Development.

[FR Doc. E7-1127 Filed 1-24-07; 8:45 am]

BILLING CODE 4910-06-P